DEPARTMENT OF STATE

[Public Notice: 12839]

60-Day Notice of Proposed Information Collection: Adoptive Family Relief Act Refund Application DS-7781

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 20, 2026.

ADDRESSES: You may submit comments by any of the following methods:

• Web: Persons with access to the internet may comment on this notice by going to www.Regulations.gov. You can search for the document by entering “Docket Number: DOS-2025-0368” in the Search field. Then click the “Comment Now” button and complete the comment form.

• Email: fees@state.gov. You must include the DS form number (DS-7781), information collection title, and the OMB control number in any correspondence.

FOR FURTHER INFORMATION CONTACT: Direct requests for additional information regarding the collection listed in this notice, including requests for copies of the proposed collection instrument and supporting documents, to Victoria Choe, who may be reached at 771-205-2240 or at fees@state.gov.

SUPPLEMENTARY INFORMATION:

• Title of Information Collection: Adoptive Family Relief Act Refund Application.

• OMB Control Number: 1405-0223.

• Type of Request: Extension of a Currently Approved Collection.

• Originating Office: CA/C.

• Form Number: DS-7781.

• Respondents: Immigrant Visa Petitioners.

• Estimated Number of Respondents: 5.

• Estimated Number of Responses: 5.

• Average Time per Response: 5 Minutes.

• Total Estimated Burden Time: 1.6 Hours.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Adoptive Family Relief Act (Pub. L. 114-70) amended Section 221(c) of the Immigration and Nationality Act (INA), 8 U.S.C. 1201(c), to allow for the waiver or refund certain immigrant visa fees for a lawfully adopted child, or a child coming to the United States to be adopted by a United States citizen, subject to criteria prescribed by the Secretary of State.

The waiver or refund provides support and relief to U.S. citizen families seeking to bring their adoptive children home to the United States but have not been able to due to country specific limitations. For example, if a country suspends the issuance of “exit permits” for children who were adopted, U.S. citizen families repeatedly pay visa renewal and related fees, while also continuing to be separated from their adopted children. The DS-7781 form collects information to determine the extra fees these families have paid and refunds them in accordance with the Adoptive Family Relief Act.

Methodology

The collection will be hosted on the Department of State website to be printed, filled out, and eventually sent to the consular section where the adoption case was originally processed.

Vlad Lipschutz,
Deputy Assistant Secretary for Resources, Bureau of Consular Affairs, Department of State.

[FR Doc. 2025-23627 Filed 12-19-25; 8:45 am]

BILLING CODE 4710-06-P